FEDERAL COMMUNICATIONS COMMISSION

[OMB 3060-1218]

Information Collection Approved by the Office of Management and Budget (OMB)

AGENCY: Federal Communications Commission.

ACTION: Notice.

SUMMARY: The Federal Communications Commission (FCC) has received Office of Management and Budget (OMB) approval for a new information collection pursuant to the Paperwork Reduction Act of 1995 (44 U.S.C. 3501-3520). An agency may not conduct or sponsor a collection of information unless it displays a currently valid OMB control number, and no person is required to respond to a collection of information unless it displays a currently valid control number. Comments about the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION: The total annual reporting burdens and costs for the respondents are as follows:

OMB Control Number: 3060-1218.

OMB Approval Date: May 23, 2016.

OMB Expiration Date: May 31, 2019.

Title: Carriage of Digital Television Broadcast Signals: Amendment to Part 76 of the Commission's Rules

Respondents: Business or other for profit entities.

Number of Respondents/Responses: 11 respondents; 11 responses.

Estimated Hours per Response: 0.25 hours (15 minutes).

Frequency of Response: Third party disclosure requirement and recordkeeping requirement.

Total Annual Burden: 3 hours.

Total Annual Cost: None.

Obligation To Respond: Required in order to monitor regulatory compliance. The statutory authority for this information collection is contained in sections 4, 303, 614, and 615 of the Communications Act of 1934, as amended.

Nature and Extent of Confidentiality: There is no need for confidentiality with this collection of information.

Privacy Act Assessment: No impact(s).

Needs and Uses: The information collection imposes a notification requirement on certain small cable systems that become ineligible for exemption from the requirement to carry high definition broadcast signals in HD (adopted in FCC 15-65). In particular, the information collection requires that, beginning December 12, 2016, at the time a small cable system utilizing the HD carriage exemption offers any programming in HD, the system must give notice that it is offering HD programming to all broadcast stations in its market that are carried on its system. Cable operators also must keep records of such notification. This information collection requirement allows affected broadcast stations to monitor compliance with the requirement that cable operators transmit high definition broadcast signals in HD.

Federal Communications Commission.
Gloria J. Miles,
Federal Register Liaison Officer, Office of the Secretary.

[FR Doc. 2016-12682 Filed 5-27-16; 8:45 am]

BILLING CODE 6712-01-P